DEPARTMENT OF HEALTH AND HUMAN SERVICES

Administration for Community Living

Announcing the Intent To Award a Single-Source Supplement for the Co-Occurring Resource Center for Individuals With I/DD

AGENCY: Administration for Community Living, HHS.

ACTION: Notice.

SUMMARY: The Administration for Community Living (ACL) announces the intent to award a single-source supplement to the current cooperative agreement held by the National Association of State Directors of Developmental Disabilities Services (NASDDDS) for the Co-Occurring Resource Center for Individuals with I/DD, called The Link Center. The purpose of this project is to improve the quality of life for people with intellectual and/or developmental disabilities (I/DD), brain injuries, and co-occurring mental health conditions by supporting state agencies with policy development, service design, and service coordination resources, and sharing resources to individuals, families, direct support professionals, clinicians, and other policymakers. The administrative supplement for FY 2024 will amount to $410,318 bringing the total award for FY 2024 to $1,060,000.

FOR FURTHER INFORMATION CONTACT: For further information or comments regarding this program supplement, contact Dana Fink, U.S. Department of Health and Human Services, Administration for Community Living, Administration on Disabilities, (202) 795-7604 or via email dana.fink@acl.hhs.gov.

SUPPLEMENTARY INFORMATION: This supplementary funding will expand the Co-Occurring Resource Center for Individuals with ID/DD (The Link Center)'s engagement and technical assistance efforts around supporting people with co-occurring I/DD, brain injuries, and co-occurring mental health conditions to live well in the community. Additionally, this supplement includes funding from SAMHSA through an interagency agreement to perform an environmental assessment of cross-system strategies to support children with I/DD, brain injuries, and other neurodevelopmental disabilities who also have complex behavioral health conditions. As a result of funding this center and the environmental assessment, ACL expects:

• Improved coordination between mental health, DD, Medicaid, and child welfare service systems to develop and/or amend policies and practices that fill service gaps, recruit and train competent staff, and assure equitable access to quality services.

• Increased number of mental health professionals and paraprofessionals, including community-based mobile crisis intervention service personnel, peer support workers, and service providers for the 988 Dialing Code for the National Suicide Prevention Lifeline, with the competencies needed to provide effective and culturally competent supports to individuals with co-occurring I/DD and mental health disabilities.

• Increased number of community service providers, who have the capacity to support children and adults with I/DD and co-occurring mental health disabilities.

• Improved awareness and knowledge of the strengths, needs, challenges, and systemic barriers experienced by children and adults with co-occurring I/DD and mental health disabilities.

• Improved ability to deliver responsive and equitable programming, training, and technical assistance.

• Increased self-determination, empowerment, and quality of life for people with co-occurring I/DD and mental health disabilities.

• Enhanced service delivery infrastructure, including mechanisms for ongoing and sustained engagement of individuals with lived experience.

This supplement will fund:

• Enhanced efforts related to children and families, including development of relationships with key national child welfare organizations.

• 10 focus groups of cross-system leaders in 10 states on system gaps resulting in adverse impacts on children with complex behavioral health needs.

• An in-person summit with federal and state officials and subject matter experts to discuss findings from the environmental assessment of promising practices and gaps related to children with complex behavioral health needs.

• Increased staff time for coordination, resource development, and accessibility efforts.

• Increased contributions from brain injury partners to align with that of other key partners more closely and better reflect the need to serve people with brain injury as well as I/DD.

• Resource development including paid participation of experts with lived experience to assist in development.

• Additional accessibility and language translation services.

Program Name: Co-Occurring Resource Center for Individuals with I/DD (The Link Center).

Recipient: The National Association of State Directors of Developmental Disabilities Services.

Period of Performance: The supplement award will be issued for the third year of the five-year project period of September 1, 2024, through August 31, 2025.

Total Supplement Award Amount: $410,318.

Award Type: Cooperative Agreement.

Statutory Authority: This program is authorized under the Developmental Disabilities Assistance and Bill of Rights Act of 2000 Public Law 106-402, Section 161(2) (B), (C) and (D) (42 U.S.C. 15081(2)).

Basis for Award: The National Association of State Directors of Developmental Disabilities Services is currently funded to carry out this cooperative agreement for the period of September 1, 2022, through August 31, 2027. Much work has already been completed and further tasks are currently being accomplished. It would be unnecessarily time consuming and disruptive to the Link Center project and the beneficiaries being served for ACL to establish a new grantee at this time when critical services are presently being provided in an efficient manner.

Dated: September 21, 2024.
Alison Barkoff,
Principal Deputy Administrator for the Administration for Community Living, performing the delegable duties of the Administrator and the Assistant Secretary for Aging.

[FR Doc. 2024-22037 Filed 9-25-24; 8:45 am]

BILLING CODE 4154-01-P